DEPARTMENT OF HEALTH AND HUMAN SERVICES

Food and Drug Administration

[FDA 225-05-2001]

Memorandum of Understanding on Environmental Contaminants in Fish and Shellfish, Between the United States Food and Drug Administration, Center for Food Safety and Applied Nutrition and the United States Environmental Protection Agency, Office of Water

AGENCY: Food and Drug Administration, HHS.

ACTION: Notice.

SUMMARY: The Food and Drug Administration (FDA) is providing notice of a memorandum of understanding (MOU) between FDA's Center for Food Safety and Applied Nutrition (CFSAN) and the U.S. Environmental Protection Agency (EPA), Office of Water (OW). The purpose of this MOU is to establish a greater collaboration between CFSAN and OW regarding environmental contaminants in fish and shellfish and the safety of fish and shellfish for consumption by U.S. consumers.

DATES: The agreement became effective June 8, 2005.

FOR FURTHER INFORMATION CONTACT: For CFSAN: Karen Carson, Center for Food Safety and Applied Nutrition (HFS-022), Food and Drug Administration, 5100 Paint Branch Pkwy., College Park, MD 20740, 301-436-1664, e-mail: Karen.Carson@cfsan.fda.gov.

For EPA: Jeffrey D. Bigler, National Fish and Wildlife Contamination Program, USEPA-4305T, 1200 Pennsylvania Ave., NW., Washington, DC 20460, 202-566-0389, FAX: 202-566-0409, e-mail: bigler.jeff@epa.gov.

SUPPLEMENTARY INFORMATION: In accordance with 21 CFR 20.108(c), which states that all written agreements and MOUs between FDA and others shall be published in the Federal Register, the agency is publishing notice of this MOU.

Dated: July 6, 2005.
Jeffrey Shuren,
Assistant Commissioner for Policy.

BILLING CODE 4160-01-S

[FR Doc. 05-13707 Filed 7-12-05; 8:45 am]

BILLING CODE 4160-01-C